DEPARTMENT OF COMMERCE

National Oceanic and Atmospheric Administration

RIN 0648-XE172

Endangered Species; File No. 19528

AGENCY: National Marine Fisheries Service (NMFS), National Oceanic and Atmospheric Administration (NOAA), Commerce.

ACTION: Notice; receipt of application.

SUMMARY: Notice is hereby given that Michael Bresette, Inwater Research Group Inc., 4160 NE Hyline Dr., Jensen Beach, FL 34957, has applied in due form for a permit to take green (Chelonia mydas), hawksbill (Eretmochelys imbricata), Kemp's ridley (Lepidochelys kempii), leatherback (Dermochelys coriacea), and loggerhead (Caretta caretta) sea turtles for purposes of scientific research.

DATES: Written, telefaxed, or email comments must be received on or before October 14, 2015.

ADDRESSES: The application and related documents are available for review by selecting “Records Open for Public Comment” from the “Features” box on the Applications and Permits for Protected Species (APPS) home page, https://apps.nmfs.noaa.gov, and then selecting File No. 19528 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to investigate habitat preference, species abundance, size frequencies, diet composition, genetic origin, disease occurrence and sex ratios of sea turtles in waters of the Indian River and Miami-Dade Counties in southeastern Florida. During vessel surveys, up to 250 greens, 100 loggerheads, 50 hawksbills, 10 Kemp's ridleys, and one leatherback sea turtle would be sighted and pursued for capture by hand, dip net or tangle net annually. Once captured, the following procedures may be performed on sea turtles: Measurements, flipper and passive integrated transponder tagging, temporary marking, photography/video, lavage, blood and tissue sampling,and/or attachment of a transmitter. In addition, up to 1,400 green, 100 loggerhead, 280 hawksbill, and 10 Kemp's ridley sea turtles could be harassed during vessel approaches.

Dated: September 8, 2015.
Julia Harrison,
Chief, Permits and Conservation Division, Office of Protected Resources, National Marine Fisheries Service.

[FR Doc. 2015-23008 Filed 9-11-15; 8:45 am]

BILLING CODE 3510-22-P